DEPARTMENT OF JUSTICE

Notice of Lodging of Proposed Consent Decree Under the Clean Air Act

On November 20, 2012, the Department of Justice lodged a proposed consent decree with the United States District Court for the Middle District of Louisiana in the lawsuit entitled United States and Louisiana Department of Environmental Quality v. Louisiana Generating LLC, Civ. No. 09-100-JJB (M.D. La.).

The United States filed a complaint in February 2009, seeking injunctive relief and civil penalties for violations of the Prevention of Significant Deterioration (“PSD”) provisions of the Clean Air Act (“CAA”), 42 U.S.C. 7470-92; the federally approved PSD regulations contained in the Louisiana State Implementation Plan (“SIP”); and the federally approved Louisiana Title V program, 42 U.S.C. 7661a-76661f (“Title V”) at the Big Cajun II, the Defendant's coal fired power plant in New Roads, Louisiana.. The Louisiana Department of Environmental Quality (“LDEQ”) filed a complaint in February 2010 alleging the same violations as are in the United States' complaint.

The complaints allege that Louisiana Generating failed to obtain appropriate permits and failed to install and operate required pollution control devices to reduce emissions of various air pollutants at two coal-fired generating units at the company's Big Cajun II plant. The proposed consent decree would require Louisiana Generating to reduce harmful emissions of sulfur dioxide (SO2) and nitrogen oxides (NOX) through emission control requirements and limitations specified by the proposed Decree, including installation and operation of new pollution controls, natural gas conversion, and annual emission caps at all three units at the Big Cajun II plant. Louisiana Generating will also spend $10.5 million to fund environmental mitigation projects that will further reduce emissions and benefit communities adversely affected by pollution from the Big Cajun II plant, and pay a civil penalty of $3.5 million. The State of Louisiana will receive $1.75 million, one-half of the $3.5 million civil penalty.

The publication of this notice opens a period for public comment on the proposed consent decree. Comments should be addressed to the Assistant Attorney General, Environment and Natural Resources Division, and should refer to United States and Louisiana Department of Environmental Quality v. Louisiana Generating LLC, Civ. No. 09-100-JJB (M.D. La.) D.J. Ref. No. 90-5-2-1-08529. All comments must be submitted no later than thirty (30) days after the publication date of this notice. Comments may be submitted either by email or by mail:

To submit comments: | Send them to:
By e-mail | pubcomment-ees.enrd@usdoj.gov.
By mail | Assistant Attorney General U.S. DOJ—ENRD P.O. Box 7611 Washington, D.C. 20044-7611.

During the public comment period, the proposed consent decree may be examined and downloaded at this Justice Department Web site: http://www.usdoj.gov/enrd/Consent_Decrees.html. We will provide a paper copy of the proposed consent decree upon written request and payment of reproduction costs. Please mail your request and payment to: Consent Decree Library, U.S. DOJ-ENRD, P.O. Box 7611, Washington, DC 20044-7611.

Please enclose a check or money order for $19.00 (25 cents per page reproduction cost) payable to the United States Treasury.

Maureen Katz,
Assistant Section Chief, Environmental Enforcement Section, Environment and Natural Resources Division.

[FR Doc. 2012-28884 Filed 11-28-12; 8:45 am]

BILLING CODE 4410-15-P